DEPARTMENT OF TRANSPORTATION

Pipeline and Hazardous Materials Safety Administration

[Docket ID PHMSA-RSPA-1998-4470]

Pipeline Safety: Meetings of the Pipeline Safety Standards Advisory Committees and a Public Workshop

AGENCY: Pipeline and Hazardous Materials Safety Administration (PHMSA), Department of Transportation (DOT).

ACTION: Notice of advisory committee meetings and workshop.

SUMMARY: This notice announces public meetings of PHMSA's Technical Pipeline Safety Standards Committee (TPSSC) and Technical Hazardous Liquid Pipeline Safety Standards Committee (THLPSSC). The Committees will meet in a joint session to discuss PHMSA's regulatory agenda and strategic plan. In conjunction with the advisory committee meetings, PHMSA will hold a public workshop.

PHMSA will hold a half day public workshop to gather comments on the use of the special permit process to allow transmission pipeline operators to vary from the 7-year reassessment interval in integrity management programs. Specifically, special permits would allow operators to tailor their reassessment intervals, based on pipe specific threats. PHMSA will ask for feedback on criteria developed for use in special permits.

DATES: The TPSSC and the THLPSSC will meet on Thursday, January 17, from 1 p.m. to 5 p.m. EST. The public meeting on special permit consideration and criteria discussion for 7-year reassessments will be on Friday, January 18, from 8 a.m. to 12 p.m. EST.

ADDRESSES: The meetings will be at the Hotel Palomar Arlington, 1121 North 19th Street, Arlington, VA 22209.

FOR FURTHER INFORMATION CONTACT:

• Technical Advisory Committee Meetings: Cheryl Whetsel (202) 366-4431, cheryl.whetsel@dot.gov;

• Public Workshop on Special Permit Consideration and Criteria Discussion for 7-Year Reassessments: Zach Barrett (405) 954-5559, zach.barrett@dot.gov.

SUPPLEMENTARY INFORMATION:

I. Meeting Details

Members of the public may attend and may make a statement during the advisory committee meetings or during the public workshop. If you plan to make a statement please notify the relevant contact under FOR FURTHER INFORMATION by January 9. Please note the meetings' presiding officer may deny a nonscheduled request to make a statement and may also limit the time of any speaker.

Comments should reference Docket ID PHMSA-RSPA-1998-4470 (advisory committee) or Docket ID PHMSA-RSPA-2000-7666 (7-year reassessment workshop). Comments may be submitted in the following ways:

• E-Gov Web Site: http://www.regulations.gov. This site allows the public to enter comments on any Federal Register notice issued by any agency. Follow the instructions for submitting comments.

• Fax: 1-202-493-2251.

• Mail: Docket Management System: U.S. Department of Transportation, 1200 New Jersey Avenue, SE., Room W12-140, Washington, DC 20590.

• Hand Delivery: DOT Docket Management System; Room W12-140, on the ground floor of the West Building, 1200 New Jersey Avenue, SE., Washington, DC between 9 a.m. and 5 p.m., Monday through Friday, except Federal holidays.

Instructions: Identify the docket ID, at the beginning of your comments. If you submit your comments by mail, submit two copies. If you wish to receive confirmation that PHMSA received your comments, include a self-addressed stamped postcard. Internet users may submit comments at http://www.regulations.gov. Note: Comments will be posted without changes or edits to http://www.regulations.gov including any personal information provided. Please see the Privacy Act heading in the Regulatory Analyses and Notices section of the SUPPLEMENTARY INFORMATION for additional information.

Privacy Act Statement: Anyone may search the electronic form of all comments received for any of our dockets. You may review DOT's complete Privacy Act Statement in the Federal Register published April 11, 2000 (65 FR 19477).

Information on Services for Individuals with Disabilities: For information on facilities or services for individuals with disabilities, or to request special assistance at the meeting, please contact Cheryl Whetsel before January 2.

II. Committee Background

The TPSSC and the THLPSSC are advisory committees mandated by statute to advise PHMSA on proposed safety standards, risk assessments, and safety policies for natural gas and hazardous liquid pipelines. These advisory committees are established under the Federal Advisory Committee Act (Pub. L. 92-463, 5 U.S.C. App. 1) and the pipeline safety law (49 U.S.C. chap. 601). Each committee consists of 15 members, five each representing government, industry, and the public. The TPSSC and the THLPSSC determine the reasonableness, cost-effectiveness, and practicability of each proposed safety standard. The committees also evaluate the cost-benefit analysis and risk assessment information on each proposal.

III. Preliminary Meeting Schedules

Joint Meeting of the Technical Advisory Committees

Thursday, January 17 (1 p.m. to 5 p.m.)

The TPSSC and THLPSSC will meet to introduce new members and to discuss their roles and responsibilities. They will also discuss PHMSA's 2008 regulatory agenda and plans to carry out the DOT and PHMSA strategic plans.

Special Permit Consideration and Criteria Discussion for 7-Year Reassessments Friday, January 18 (8 a.m.-12 p.m.)

Integrity management regulations applicable to gas transmission pipelines required all operators to do a baseline assessment of pipelines. PHMSA will hold a public workshop to gather comments on the use of a special permit to allow certain transmission pipeline operators to tailor reassessment intervals, based on pipe specific threats, instead of using the 7-year mandatory reassessment required now. PHMSA will ask for feedback on criteria developed for these special permits.

PHMSA will post more detailed agendas and any additional information or changes on its Web page (http://phmsa.dot.gov) approximately 15 days before the meeting date.

Authority: 49 U.S.C. 60102, 60115; 60118.

Issued in Washington, DC on December 14, 2007.
Jeffrey D. Wiese,
Associate Administrator for Pipeline Safety.

[FR Doc. 07-6099 Filed 12-14-07; 2:15 pm]

BILLING CODE 4910-60-P